DEPARTMENT OF COMMERCE

International Trade Administration

[C-489-819]

Steel Concrete Reinforcing Bar From the Republic of Turkey: Final Results of the Expedited First Sunset Review of the Countervailing Duty Order

AGENCY: Enforcement and Compliance, International Trade Administration, Department of Commerce.

SUMMARY: As a result of this expedited sunset review, the Department of Commerce (Commerce) finds that revocation of the countervailing duty order on steel concrete reinforcing bar (rebar) from the Republic of Turkey (Turkey) would be likely to lead to continuation or recurrence of countervailable subsidies at the levels as indicated in the “Final Results of Sunset Review” section of this notice.

DATES: Applicable January 28, 2020.

FOR FURTHER INFORMATION CONTACT: Charlotte Baskin-Gerwitz, AD/CVD Operations, Office VII, Enforcement and Compliance, International Trade Administration, U.S. Department of Commerce, 1401 Constitution Avenue NW, Washington, DC 20230; telephone: (202) 482-4880.

SUPPLEMENTARY INFORMATION:

Background

On November 6, 2014, Commerce published the countervailing duty order on rebar from Turkey in the Federal Register.¹ On October 1, 2019, Commerce published the notice of initiation of the first five-year (sunset) review of the Order, pursuant to section 751(c) of the Tariff Act of 1930, as amended (the Act).² On October 16, 2019, Commerce received a notice of intent to participate from the Rebar Trade Action Coalition (RTAC) and its individual members ³ (collectively, the domestic interested parties), within the deadline specified in 19 CFR 351.218(d)(1)(i).⁴ The domestic interested parties claimed interested party status under section 771(9)(F) of the Act as an association, a majority of whose members are composed of interested parties within the meaning of section 771(9)(C)—a manufacturer of the domestic like product.⁵

¹ See Steel Concrete Reinforcing Bar from the Republic of Turkey: Countervailing Duty Order, 79 FR 65926, 65927 (November 6, 2014) (Order).

² See Initiation of Five-Year (Sunset) Review, 84 FR 52067 (October 1, 2019) (Notice of Initiation).

³ RTAC's individual members are Nucor Corporation, Gerdau Ameristeel U.S. Inc., Commercial Metals Company, and Steel Dynamics, Inc.

⁴ See Domestic Interested Parties' Letter, “Steel Concrete Reinforcing Bars from the Republic of Turkey: Notice of Intent to Participate in Sunset Review,” dated October 16, 2019.

⁵ Id. at 2.

On October 30, 2019, Commerce received adequate substantive responses to the Notice of Initiation from the domestic interested parties and the Government of Turkey (GOT) within the 30-day deadline specified in 19 CFR 351.218(d)(3)(i).⁶ Commerce received no substantive response from any respondent interested parties.

⁶ See Domestic Interested Parties' Letter, “Steel Concrete Reinforcing Bar from the Republic of Turkey: Substantive Response to Notice of Initiation,” dated October 30, 2019; and see also GOT's Letter, “Substantive Response of the Government of the Republic of Turkey in the First Sunset Review of the Countervailing Duty Order on Steel Concrete Reinforcing Bar,” dated October 30, 2019.

On November 22, 2019, Commerce notified the U.S. International Trade Commission (ITC) that it did not receive an adequate substantive response from respondent interested parties.⁷ Accordingly, pursuant to section 751(c)(3)(B) of the Act and 19 CFR 351.218(e)(1)(ii)(C)(2), Commerce conducted an expedited (120-day) sunset review of the Order.

⁷ See Commerce's Letter, “Sunset Review Initiated on October 1, 2019,” dated November 22, 2019.

Scope of the Order

The merchandise covered by the Order is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010.

The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). Also excluded from the scope is deformed steel wire meeting ASTM A1064/A1064M with no bar markings (e.g., mill mark, size, or grade) and without being subject to an elongation test. HTSUS numbers are provided for convenience and customs purposes; however, the written description of the scope remains dispositive.

Analysis of Comments Received

All issues raised in this sunset review are addressed in the Issues and Decision Memorandum, including the likelihood of continuation or recurrence of countervailable subsidies and the net countervailable subsidy likely to prevail if the order were revoked.⁸ The Issues and Decision Memorandum is a public document and is on file electronically via Enforcement and Compliance's Antidumping and Countervailing Duty Centralized Electronic Services System (ACCESS). ACCESS is available to registered users at http://access.trade.gov, and to all parties in the Central Records Unit in Room B8024 of the main Commerce building. In addition, a complete version of the Issues and Decision Memorandum can be accessed directly at https://enforcement.trade.gov/frn/index.html. The signed and electronic versions of the Issues and Decision Memorandum are identical in content. A list of the issues discussed in the decision memorandum is attached at the Appendix to this notice.

⁸ See Memorandum, “Issues and Decision Memorandum for the Expedited First Sunset Review of the Countervailing Duty Order on Drawn Stainless Steel Sinks from the People's Republic of China,” dated concurrently with, and hereby adopted by, this notice (Issues and Decision Memorandum).

Final Results of Sunset Review

Pursuant to sections 751(c)(1) and 752(b) of the Act, Commerce determines that revocation of the Order would be likely to lead to continuation or recurrence of countervailable subsidies at the following rates:

⁹ These companies were found to be cross-owned in a prior segment of this proceeding. See Steel Concrete Reinforcing Bar from the Republic of Turkey: Final Results and Partial Rescission of Countervailing Duty Administrative Review; 2014, 82 FR 26907 (June 12, 2017).

¹⁰ These companies were found to be cross-owned in a prior segment of this proceeding. See Steel Concrete Reinforcing Bar from the Republic of Turkey: Final Results and Partial Rescission of Countervailing Duty Administrative Review; 2015, 83 FR 16051 (April 13, 2018).

¹¹ Merchandise either produced or exported by Habas (but not both) is subject to the all others rate.

Manufacturer/producer/exporter | Net countervailable subsidy (%)
Icdas Celik Enerji Tersane ve Ulasim Sanayi A.S | 4.02.
Kaptan Demir Celik Endustrisi ve Ticaret A.S. and Kaptan Metal Dis Ticaret ve Nakliyat A.S. (collectively, Kaptan) ⁹ | 1.25.
Colakoglu Dis Ticaret A.S. and Colakoglu Metalurji A.S. (collectively, Colakoglu) ¹⁰ | 1.25.
Produced and Exported by Habas Sinai ve Tibbi Gazlar Istihsal Endustrisi A.S. (Habas) ¹¹ | Excluded from the Order.
All Others | 1.25.

Administrative Protective Order (APO)

This notice serves as the only reminder to parties subject to APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing the final results and notice in accordance with sections 751(c), 752(b), and 777(i)(1) of the Act.

Dated: January 22, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

VII. Final Results of Sunset Review

VIII. Recommendation

[FR Doc. 2020-01434 Filed 1-27-20; 8:45 am]

BILLING CODE 3510-DS-P